DEPARTMENT OF THE INTERIOR

National Park Service

National Register of Historic Places; Notification of Pending Nominations

Nominations for the following properties being considered for listing in the National Register were received by the National Park Service before June 28, 2003. Pursuant to section 60.13 of 36 CFR part 60 written comments concerning the significance of these properties under the National Register criteria for evaluation may be forwarded by United States Postal Service, to the National Register of Historic Places, National Park Service, 1849 C St. NW, 2280, Washington, DC 20240; by all other carriers, National Register of Historic Places, National Park Service, 1201 Eye St. NW, 8th floor, Washington DC 20005; or by fax, 202-371-6447. Written or faxed comments should be submitted by August 2, 2003.

Carol D. Shull,
Keeper of the National Register of Historic Places.

DISTRICT OF COLUMBIA

District of Columbia

Chevy Chase Arcade, 5520 Connecticut Ave., Washington, 03000730

Square 1500, 4820, 4860, 4872, 4874, Massachusetts Ave., and 4301 49th St. NW, Washington, 03000731

FLORIDA

Indian River County

Old Town Sebastian Historic District East, Main and Washington Sts., Riverside Dr., FEC Railroad, Sebastian, 03000728

Pinellas County

Kenwood Historic District, Roughly bounded by 9th Ave. N, 19th St. N, 1st Ave. N, 31st St. N, 5th Ave N, and 34th St. N, St. Petersburg, 03000729

MINNESOTA

Cook County

Cascade River Wayside, (Federal Relief Construction in Minnesota MPS) 2481 MN 61, Cascade River State Park, 03000733

Fillmore County

Preston Overlook, (Federal Relief Construction in Minnesota MPS) On MN 52, Preston, 03000732

NEW MEXICO

Dona Ana County

Phillips Chapel CME Church, 638 N. Tornillo St., Las Cruces, 03000735

Otero County

Alamogordo Woman's Club, (New Mexico Federation of Women's Club Buildings in New Mexico MPS) SE corner of 12th St. and Indiana Ave., Alamogordo, 03000734

UTAH

Cache County

Elite Hall, 98 W. Main St., Hyrum, 03000736

VERMONT

Orange County

Brock Hill Schoolhouse, (Educational Resources of Vermont MPS) North Rd., Newbury, 03000738

Windham County

Park Farm, (Agricultural Resources of Vermont MPS) 26 Woodchuck Hill Rd., Grafton, 03000737

VIRGINIA

Alexandria Independent City

Orange and Alexandria Railroad Hooff's Run Bridge, Jamieson Ave. at Hooff's Run, Alexandria (Independent City), 03000740

Fairfax County

Washington's, George, Gristmill, 5512 Mount Vernon Memorial Hwy., Lorton, 03000739

Suffolk Independent City East Suffolk Complex, 231 S. 7th St., Suffolk (Independent City), 03000743

[FR Doc. 03-18207 Filed 7-17-03; 8:45 am]

BILLING CODE 4312-51-P